DEPARTMENT OF TRANSPORTATION

Pipeline and Hazardous Materials Safety Administration

Office of Hazardous Materials Safety; Notice of Applications for Modification of Special Permit

AGENCY: Pipeline and Hazardous Materials Safety Administration, DOT.

ACTION: List of applications for modification of special permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the anture of application have been shown in earlier Federal Register publications, they are not repeated here. Request of modifications of special permits (e.g. to provide for additional hazardous materials, packaging design changes, additional mode of transportation, etc.) are described in footnotes to the application number. Application numbers with the suffix “M” denote a modification request. These applications have been separated from the new applications for special permits to facilitate processing.

DATES: Comments must be received on or before January 2, 2007.

ADDRESSES: Record Center, Pipeline and Hazardous Materials Safety Administration, U.S. Department of Transportation, Washington, DC 20590.

Comments should refer to the application number and be submitte in triplicate. If confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for modification of special permits is published in accordance with Part 107 of the Federal hazardous materials transportation law (49 U.S.C. 5117(b); 49 CFR 1.53(b)).

Issued in Washington, DC, on December 12, 2006.
Delmer F. Billings,
Director, Office of Hazardous Materials, Special Permits & Approvals.

Modification Special Permits
Application No. | Docket No. | Applicant | Regulation(s) affected | Nature of special permit thereof
11383-M |  | NASA, Washington, DC | 49 CFR 173.40(a) & (c); 173.158(b), (g), (h); 173.192(a); 173.336 | To modify the special permit to authorize additional trade names for UN1975.
11917-M | RSPA-2741 | ITW Sexton, Decatur, AL | 49 CFR 173.304(a) | To modify the special permit to authorize a decrease in height of the non-DOT specification, non-refillable steel cylinders for the transportation of Division 2.1 materials.
13173-M | RSPA-14003 | Dynetek Industries, LTD, Calgary, AB | 49 CFR 173.302(a); 175.3 | To modify the special permit to authorize the manufacture, marke, sale and use of DOT-CFFC specification fully wrapped carbon fiber reinforced aluminum lined cylinders mounted in protective enclosures for use in transporting Division 2.1 and 2.2 hazardous materials.

[FR Doc. 06-9724 Filed 12-14-06; 8:45 am]

BILLING CODE 4909-60-M